DEPARTMENT OF TRANSPORTATION

Federal Aviation Administration

14 CFR Part 23

[Docket No. CE163; Special Conditions No. 23-105-SC]

Special Conditions: Sino Swearingen, Model SJ30-2; Side-Facing Seat.

AGENCY: Federal Aviation Administration (FAA), DOT.

ACTION: Final special conditions.

SUMMARY: These special conditions are issued for the Sino Swearingen, Model SJ30-2 airplane. This airplance will have a novel or unusual design feature(s) associated with side-facing seats. The applicable airworthiness regulations do not contain adequate or appropriate safety standards for this design feature. These special conditions contain the additional safety standards that the Administrator considers necessary to establish a level of safety equivalent to that established by the existing airworthiness standards.

EFFECTIVE DATE: January 26, 2001.

FOR FURTHER INFORMATION CONTACT: Les Taylor, Federal Aviation Administration, Aircraft Certification Service, Small Airplane Directorate, ACE-111, 901 Locust, Room 301, Kansas City, Missouri, 816-329-4134, fax 816-329-4090.

SUPPLEMENTARY INFORMATION:

Background

On October 9, 1995, Sino Swearigen Aircraft Company, 1770 Sky Place Boulevard, San Antonio, Texas 78216, applied for normal category type certificate for their new Model SJ30-2. The Model SJ30-2 airplane is a six-to-eight place, all metal, low-wing, T-tail twin turbofan engine powered airplane with fully enclosed retractable landing gear. The SJ30-2 will have a VMO/MMO of 320 knots/M=.83, and will have engines mounted aft on the fuselage.

The Model SJ30-2 airplane will contain one side-facing seat. Side facing seats are considered a novel design and were not considered when those airworthiness standards were promulgated. The FAA has determined that the existing regulations do not provide adequate or appropriate safety standards for occupants of side-facing single occupant seats. In order to provide a level of safety that is equivalent to that afforded to occupants of forward and aft facing seats, additional airworthiness standards, in the form of additional special conditions, are necessary.

Type Certification Basis

Under the provisions of 14 CFR § 21.17, Sino Swearingen Aircraft Company must show that the Model SJ30-2 meets the applicable provisions of 14 CFR part 23 as amended by Amendments 23-1 through 23-53, and selected portions of 14 CFR part 25 as provided for by 14 CFR part 21, §§ 21.16 and 21.17(a)(2); exemptions, if any; equivalent level of safety findings, if any; and the special conditions adopted by this rulemaking action.

If the Administrator finds that the applicable airworthiness regulations (i.e., part 23) do not contain adequate or appropriate safety standards for the Sino Swearingen Model SJ30-2 because of a novel or unusual design feature, special conditions are prescribed under the provisions of § 21.16.

In addition to the applicable airworthiness regulations and special conditions, the Model SJ30-2 must comply with the part 23 fuel vent and exhaust emission requirements of 14 CFR part 34 and the noise certification requirements of 14 CFR part 36, and the FAA must issue a finding of regulatory adequacy pursuant to Section 611 of Public Law 92-574, the “Noise Control Act of 1972.”

Special conditions, as appropriate, are issued in accordance with § 11.49 after public notice, as required by §§ 11.28 and 11.29(b), and become part of the type certification basis in accordance with § 21.17(a)(2).

Special conditions are initially applicable to the model for which they are issued. Should the type certificate for that model be amended later to include any other model that incorporates the same novel or unusual design feature, or should any other model already included on the same type certificate be modified to incorporate the same novel or unusual design feature, the special conditions would also apply to the other model under the provisions of § 21.101(a)(1).

Novel or Unusual Design Features

The Model SJ30-2 will incorporate the following novel or unusual design features: A side-facing seat occupiable for taxi, takeoff and landing.

Discussion of Comments

Notice of proposed special conditions No. 23-00-04-SC for the Sino Swearington, Model SJ30-2, airplanes was published on September 20, 2000 (65 FR 56809). No comments were received, and the special conditions are adopted as proposed.

Applicability

As discussed above, these special conditions are applicable to the Sino Swearingen, Model SJ30-2. Should Sino Swearingen apply at a later date for a change to the type certificate to include another model incorporating the same novel or unusual design feature, the special conditions would apply to that model as well under the provisions of § 21.101(a)(1).

Conclusion

The special conditions in the FAA position are acceptable. The conditions requested by the applicant are as follows:

1. The EuroSID-1 ATD as defined in the Applicant's Position is considered an acceptable equivalent for the purposes of the test defined in these special conditions.

2. The applicants position which is consistent with Advisory Circular 23.562-1, page 4, shows a table in which “crew” seats are shown to meet the 19/26G pulses and passenger seats are shown to meet the 15/21 G pulses.

This action affects only certain novel or unusual design features on one model of airplane. It is not a rule of general applicability, and it affects only the applicant who applied to the FAA for approval of these features on the airplane.

List of Subjects in 14 CFR Part 23

Aircraft, Aviation safety, Signs and symbols.

Citation

The authority citation for these special conditions is as follows:

Authority: 49 U.S.C. 106(g), 40113 and 44701; 14 CFR 21.16 and 21.17; and 14 CFR 11.28 and 11.49.

The Special Conditions

Accordingly, pursuant to the authority delegated to me by the Administrator, the following special conditions are issued as part of the type certification basis for the Sino Swearingen Aircraft Company Model SJ30-2 airplane applicable to side-facing seats occupiable during taxi, takeoff, and landing.

1. Injury Criteria

(a) Existing Criteria: All injury protection criteria of § 23.562(c)(1) through (c)(7) and § 23.785 apply to the occupant of a side facing seat. Head Injury Criteria (HIC) assessments are only required for head contact with either the seat or adjacent structures or both.

(b) Body-to-wall/furnishing contact: The seat must be installed aft of a structure such as an interior wall or furnishing that will support the pelvis, upper arm, chest, and head of an occupant seated next to the structure. Horizontal tests of the seat must include representative structures for the forward wall. The wall must include attachments that represent the geometry, strength, and stiffness of the airplane installation. If there are structures forward of the wall that will affect the deformation of the wall, these structures must be addressed in the test procedure. The contact surface of this structure must be covered with at least two inches of energy absorbing protective foam, such as ensolite.

(c) Thoracic Trauma: Testing with a Side Impact Dummy (SID), as defined by 49 CFR part 572, Subpart F, or its equivalent, must be conducted and Thoracic Trauma Index (TTI) injury criteria acquired with the SID must be less than 85, as defined in 49 CFR part 572, Subpart F. SID TTI data must be processed as defined in Federal Motor Vehicle Safety Standard (FMVSS) Section 571.214, S 6.13.5. Rational analysis, comparing an installation with another installation where TTI data were acquired and found acceptable, may also be viable. The use of the EuroSID-1 as defined by the Official Journal of European Communities, L169 Volume 39, dated July 8, 1996, Directive 96/27/EC and amending Directive 70/156/EEC is considered acceptable for the collection of this data.

(d) Pelvis: Pelvic lateral acceleration must not exceed 130g. Pelvic acceleration data must be processed as defined in FMVSS Section 571.214, S 6.13.5.

2. General Test Guidelines

(a) One test with the SID Anthropomorphic Test Dummy (ATD) or the EuroSID-1, as defined above, undeformed floor, no yaw, and with all lateral structural supports (armrest/walls).

Pass/fail injury assessments: TTI; and pelvic acceleration.

(b) One test with the Hybrid II ATD, or equivalent, deformed floor, with 10 degrees yaw, and with all lateral structural supports (armrest/walls).

Pass/fail injury assessments: HIC; and upper torso restraint system retention and pelvic acceleration.

(c) Vertical test to be conducted with modified Hybrid II ATD's with existing pass/fail criteria.

(d) G-loads used in 2(a), 2(b) and 2(c) are those defined in 14 CFR part 23, § 23.562(b), for first row (crew) and other rows (passenger) seats.

Issued in Kansas City, Missouri on December 11, 2000.
Michael Gallagher,
Manager, Small Airplane Directorate, Aircraft Certification Service.

[FR Doc. 00-32882 Filed 12-26-00; 8:45 am]

BILLING CODE 4910-13-M